COUNCIL ON ENVIRONMENTAL QUALITY

[CEQ-2022-0003]

Generic Clearance for the Collection of Qualitative Feedback on Agency Service Delivery

AGENCY: Council on Environmental Quality.

ACTION: Notice of information collection; request for comments.

SUMMARY: In accordance with the Paperwork Reduction Act (PRA), the Council on Environmental Quality (CEQ) is planning to submit an information collection request (ICR), Generic Clearance for the Collection of Qualitative Feedback on Agency Service Delivery to the Office of Management and Budget (OMB) for review and approval. Before doing so, CEQ is soliciting public comments on specific aspects of the proposed information collection as described below. The PRA requires Federal agencies to publish a notice in the Federal Register concerning each proposed collection of information, including each proposed extension of a currently approved collection, and to allow 60 days for public comment in response to the notice. An agency may not conduct or sponsor and a person is not required to respond to a collection of information unless it displays a currently valid OMB control number.

DATES: Interested persons are invited to submit comments on or before May 16, 2022.

ADDRESSES: You may submit comments, identified by docket number CEQ-2022-0003, by any of the following methods:

• Federal eRulemaking Portal: https://www.regulations.gov. Follow the instructions for submitting comments.

• Fax: 202-456-6546.

• Mail: Council on Environmental Quality, 730 Jackson Place NW, Washington, DC 20503.

All submissions received must include the agency name, “Council on Environmental Quality,” and the docket number, CEQ-2022-0003. All comments received will be posted without change to https://www.regulations.gov, including any personal information provided. Do not submit electronically any information you consider to be private, Confidential Business Information (CBI), or other information, the disclosure of which is restricted by statute.

FOR FURTHER INFORMATION CONTACT: To request additional information about this Information Collection Request, please contact Sharmila L. Murthy at 202-395-5750 or Sharmila.L.Murthy@ceq.eop.gov.

SUPPLEMENTARY INFORMATION: Pursuant to the Paperwork Reduction Act, 44 U.S.C. 3506(c)(2)(A), CEQ is soliciting comments and information to enable it to: (1) Evaluate whether the proposed collection of information is necessary for the proper performance of the functions of CEQ, including whether the information will have practical utility; (2) evaluate the accuracy of CEQ's estimate of the burden of the proposed collection of information, including the validity of the methodology and assumptions used; (3) enhance the quality, utility, and clarity of the information to be collected; and (4) minimize the burden of the collection of information on those who are to respond, including through the use of automated collection techniques or other forms of information technology. CEQ will consider the comments received and amend the ICR as appropriate. CEQ then will submit the final ICR package to OMB for review and approval. At that time, CEQ will issue another Federal Register notice to announce the submission of the ICR to OMB and the opportunity to submit additional comments to OMB.

Abstract: The information collection activity provides a means to garner qualitative stakeholder feedback in an efficient, timely manner. CEQ envisions using surveys and focus groups to enhance customer service, improve product development, target messaging, ensure quality control, engage with stakeholders, and spur innovation. Information gathered will yield qualitative information; the collections will not be designed or expected to yield statistically representative results, but rather provide insight about the challenges that subsets of stakeholders face. This feedback will provide insights into stakeholder perceptions, experiences and expectations, provide an understanding of issues with service, or focus attention on areas where communication, training or changes in operations might improve delivery of products or services. These collections will allow for ongoing, collaborative, and actionable communications between CEQ and its stakeholders. It also will allow feedback to contribute directly to the improvement of program management and services. The solicitation of feedback will target areas such as timeliness, appropriateness, accuracy of information, courtesy, efficiency of service delivery, and resolution of issues with service delivery. CEQ will assess responses to plan and inform efforts to improve or maintain the quality of service offered to the public. If this information is not collected, vital feedback from stakeholders on CEQ's services will be unavailable.

CEQ will only submit a collection for approval under this generic clearance if the collections are voluntary; the collections are low burden for respondents and are low- or no-cost for both the respondents and the Federal Government; the collections are noncontroversial and do not raise issues of concern to other Federal agencies; the collections are targeted to the solicitation of opinions from respondents who have experience with a program or may have experience with a program in the near future; personally identifiable information is collected only to the extent necessary and is not retained; information gathered will be used only internally for general service improvement and program management purposes; information gathered will not be used for the purpose of substantially informing influential policy decisions; and information gathered will yield qualitative information.

Title of Collection: CEQ Stakeholder Engagement.

Form Numbers: None.

Respondents/affected entities: Individuals and households; businesses, academic institutions, non-profit groups, and other organizations; or state, Tribal, local, or foreign governments.

Respondent's obligation to respond: Voluntary.

Estimated number of respondents: 125,000 (over three years).

Frequency of response: Once.

Total estimated burden: 3,000 hours (over three years). Burden is defined at 5 CFR 1320.03(b).

Total estimated cost: There are no annualized capital or operation and maintenance costs.

Amy B. Coyle,
Deputy General Counsel.

[FR Doc. 2022-05567 Filed 3-15-22; 8:45 am]

BILLING CODE 3325-F2-P